DEPARTMENT OF TRANSPORTATION

Federal Aviation Administration

14 CFR Part 39

[Docket No. FAA-2009-0226; Directorate Identifier 2007-SW-35-AD; Amendment 39-15930; AD 2009-12-07]

RIN 2120-AA64

Airworthiness Directives; Agusta S.p.A. Model A109E, A109S, A119, and AW119MKII Helicopters

AGENCY: Federal Aviation Administration (FAA), Department of Transportation (DOT).

ACTION: Final rule.

SUMMARY: We are adopting a new airworthiness directive (AD) for Agusta S.p.A. (Agusta) Model A109E, A109S, A119, and AW119MKII helicopters. This AD results from mandatory continuing airworthiness information (MCAI) originated by an aviation authority of another country to identify and correct an unsafe condition on an aviation product. The European Aviation Safety Agency (EASA), the Technical Agent for the aviation authority of Italy, with which we have a bilateral agreement, has issued an MCAI AD which states that two cases of cracks on a certain cargo hook lever (lever) have been reported by the manufacturer of the cargo hook. This lever is a critical structural component of the cargo hook, and a crack could result in inadvertent loss of the cargo hook load. This AD requires actions that are intended to address the unsafe condition caused by cracks in the cargo hook lever.

DATES: This AD becomes effective on July 17, 2009.

The incorporation by reference of certain publications is approved by the Director of the Federal Register as of July 17, 2009.

ADDRESSES: You may examine the AD docket on the Internet at http://regulations.gov or in person at the Docket Operations office, U.S. Department of Transportation, M-30, West Building Ground Floor, Room W12-140, 1200 New Jersey Avenue, SE., Washington, DC between 9 a.m. and 5 p.m. Monday through Friday, except Federal holidays.

You may get the service information identified in this AD from Agusta, Via Giovanni Agusta, 520 21017 Cascina Costa di Samarate (VA), Italy, telephone 39 0331-229111, fax 39 0331-229605/222595, or at http://customersupport.agusta.com/technical_advice.php.

Examining the AD Docket: The AD docket contains the Notice of proposed rulemaking (NPRM), the economic evaluation, any comments received, and other information. The street address and operating hours for the Docket Operations office (telephone (800) 647-5527) are in the ADDRESSES section of this AD. Comments will be available in the AD docket shortly after they are received.

FOR FURTHER INFORMATION CONTACT: John Strasburger, Aviation Safety Engineer, FAA, Rotorcraft Directorate, Regulations and Policy Group, 2601 Meacham Blvd., Fort Worth, Texas 76137; telephone (817) 222-5167; fax (817) 222-5961.

SUPPLEMENTARY INFORMATION:

Discussion

We issued an NPRM to amend 14 CFR part 39 to include an AD that would apply to the Agusta Model A109E, A109S, A119, and AW119MKII helicopters on March 4, 2009. That NPRM was published in the Federal Register on March 23, 2009 (74 FR 12096). That NPRM proposed to require actions that are intended to detect a crack in the cargo hook lever and prevent the inadvertent loss of the cargo hook load. You may obtain further information by examining the MCAI and any related service information in the AD docket.

Comments

By publishing the NPRM, we gave the public an opportunity to participate in developing this AD. However, we received no comment on the NPRM or on our determination of the cost to the public. Therefore, based on our review and evaluation of the available data, we have determined that air safety and the public interest require adopting the AD as proposed.

Relevant Service Information

Agusta has issued Alert Bollettino Tecnico (ABT) No. 109EP-78, ABT No. 109S-12, and ABT No. 119-21, all dated June 6, 2007. The actions described in the MCAI are intended to correct the same unsafe condition as that identified in the service information.

Differences Between This AD and the MCAI

We have reviewed the MCAI and, in general, agree with its substance. However, we have made the following changes:

• Excluded the August 31, 2007 compliance date because that date has passed;

• Excluded the Model A109LUH from the applicability and do not reference Agusta ABT No. 109L-006 because the Model A109LUH helicopter is not on the U.S. type certificate, H7EU;

• Added the Model AW119MKII to the applicability;

• Required the use of a 10-power or higher magnifying glass to accomplish the visual inspections; and

• Excluded the kit installation part number (P/N), relying instead on the cargo hook and lever P/N.

These differences are highlighted in the “Differences Between this AD and the MCAI” section in this AD.

Costs of Compliance

We estimate that this AD will affect about 26 helicopters on the U.S. Registry with the cargo hook. We also estimate that it will take about 10 minutes to inspect each cargo hook for a crack, and about 1 work-hour to replace a cracked cargo hook. The average labor rate is $80 per work-hour. Required parts will cost about $3,677 per cargo hook. Based on these figures, we estimate the cost of this AD on U.S. operators to be $97,647 per year, assuming that each affected helicopter requires five inspections per week, and that two cargo hooks are replaced each year.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have Federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-12-07 Agusta S.p.A.: Amendment 39-15930; Docket No. FAA-2009-0226; Directorate Identifier 2007-SW-35-AD.

Effective Date

(a) This airworthiness directive (AD) becomes effective on July 17, 2009.

Other Affected ADs

(b) None.

Applicability

(c) This AD applies to Model A109E, A109S, A119, and AW119MKII helicopters with cargo hook, part number (P/N) 528-010-01, and cargo hook lever, P/N 232-028-00, installed, certificated in any category.

Reason

(d) The mandatory continuing airworthiness information (MCAI) states that two cases of cracks in the lever, P/N 232-028-00, have been reported by the manufacturer of the cargo hook. The lever is a component of the cargo hook, P/N 528-010-01. This lever is a critical structural component of the cargo hook, and a crack could result in inadvertent loss of the cargo hook load.

Actions and Compliance

(e) Before each cargo hook operation, visually inspect the cargo hook lever, P/N 232-028-00, for any crack. Use a 10-power or higher magnifying glass and inspect in the area depicted in Figures 1 and 2 of the following Agusta Alert Bollettino Tecnico (ABT), all dated June 6, 2007:

(1) ABT No. 109EP-78 for Model A109E helicopters;

(2) ABT No. 109S-12 for Model A109S helicopters; or

(3) ABT No. 119-21 for Model A119 helicopters.

(f) If a crack is found in the lever, do not use the cargo hook until the entire cargo hook is replaced with an airworthy cargo hook with an uncracked lever.

Differences Between This AD and the MCAI

(g) This AD differs from the MCAI AD in that we:

(1) Exclude the August 31, 2007 compliance date because that date has passed;

(2) Exclude the Model A109LUH from the applicability and do not reference Agusta ABT No. 109L-006 because the Model A109LUH helicopter is not on the U.S. type certificate, H7EU;

(3) Add the Model AW119MKII to the applicability;

(4) Require the use of a 10-power or higher magnifying glass to accomplish the visual inspections; and

(5) Exclude the kit installation P/N, relying instead on the cargo hook and lever P/N.

Other Information

(h) Alternative Methods of Compliance (AMOCs): The Manager, Safety Management Group, FAA, has the authority to approve AMOCs for this AD, if requested using the procedures found in 14 CFR 39.19. Send information to ATTN: John Strasburger, Aviation Safety Engineer, Regulations and Policy Group, Rotorcraft Directorate, FAA, 2601 Meacham Blvd., Fort Worth, TX 76137; telephone (817) 222-5167; fax (817) 222-5961.

Related Information

(i) EASA Emergency AD No. 2007-0160-E, dated June 7, 2007, contains related information.

Air Transport Association of America (ATA) Tracking Code

(j) Air Transport Association of America (ATA) Code 2550: Cargo Compartments.

Material Incorporated by Reference

(k) You must use the specified portions of the service information identified in Table 1 to do the actions required.

(1) The Director of the Federal Register approved the incorporation by reference of the service information identified in Table 1 under 5 U.S.C. 552(a) and 1 CFR part 51.

(2) For service information identified in this AD, contact Agusta, Via Giovanni Agusta, 520 21017 Cascina Costa di Samarate (VA), Italy, telephone 39 0331-229111, fax 39 0331-229605/222595, or at http://customersupport.agusta.com/technical_advice.php.

(3) You may review copies at the FAA, Office of the Regional Counsel, Southwest Region, 2601 Meacham Blvd., Room 663, Fort Worth, Texas; or at the National Archives and Records Administration (NARA). For information on the availability of this material at NARA, call (202) 741-6030, or go to: http://www.archives.gov/federal-register/cfr/ibr-locations.html.

Table 1—Material Incorporated by Reference
Agusta Alert Bollettino Tecnico | Date | For helicopter model
No. 109EP-78 | June 6, 2007 | A109E
No. 109S-12 | June 6, 2007 | A109S
No. 119-21 | June 6, 2007 | A119

Issued in Fort Worth, Texas on May 21, 2009.
Mark R. Schilling,
Acting Manager, Rotorcraft Directorate, Aircraft Certification Service.

[FR Doc. E9-13566 Filed 6-11-09; 8:45 am]

BILLING CODE 4910-13-P